ENVIRONMENTAL PROTECTION AGENCY

[FRL-7245-2]

Availability of “Supplemental Allocation of Fiscal Year 2002 Operator Training Grants for Wastewater Security”

AGENCY: Environmental Protection Agency (EPA).

ACTION: Notice of document availability.

SUMMARY: EPA is announcing availability of a memorandum entitled “Supplemental Allocation of Fiscal Year 2002 Operator Training Grants” issued on June 5, 2002. This memorandum provides National guidance for the allocation of funds used under section 104(g)(l) of the Clean Water Act.

ADDRESSES: Municipal Assistance Branch, U.S. EPA, 1200 Pennsylvania Avenue, NW. (4204-M), Washington, DC, 20460.

FOR FURTHER INFORMATION CONTACT: Curt Baranowski, (202) 564-0636 or baranowski.curt@epa.gov.

SUPPLEMENTARY INFORMATION: The subject memorandum may be viewed and downloaded from EPA's homepage, http://www.epa.gov/owm/tomm.htm, under “Supplemental Wastewater Security Grant Guidance”.

Dated: June 21, 2002.
James A. Hanlon,
Director, Office of Wastewater Management.

[FR Doc. 02-17539 Filed 7-11-02; 8:45 am]

BILLING CODE 6560-50-P